DEPARTMENT OF HEALTH AND HUMAN SERVICES

National Institutes of Health

National Institute of General Medical Sciences; Amended Notice of Meeting

Notice is hereby given of a change in the meeting of the National Institute of General Medical Sciences Special Emphasis Panel, August 7, 2009, 8 a.m. to August 7, 2009, 5 p.m., National Institutes of Health, Natcher Building, Room 3AN12, 45 Center Drive, Bethesda, MD 20892 which was published in the Federal Register on July 14, 2009, 74 FR 34025-34026.

The meeting has been changed from August 7, 2009 to August 17, 2009. The meeting is closed to the public.

Dated: July 17, 2009.
Jennifer Spaeth,
Director, Office of Federal Advisory Committee Policy.

[FR Doc. E9-17594 Filed 7-23-09; 8:45 am]

BILLING CODE 4140-01-M